DEPARTMENT OF ENERGY

Federal Energy Regulatory Commission

Combined Notice of Filings No. 2

September 01, 2010.

Take notice that the Commission has received the following Natural Gas Pipeline Rate and Refund Report filings:

Docket Numbers: RP10-1160-000.

Applicants: Dauphin Island Gathering Partners.

Description: Dauphin Island Gathering Partners submits the Ninth Revised Sheet 7 to FERC Gas Tariff, First Revised Volume 1 effective 10/1/10.

Filed Date: 08/31/2010.

Accession Number: 20100901-0202.

Comment Date: 5 p.m. Eastern Time on Monday, September 13, 2010.

Docket Numbers: RP10-1161-000.

Applicants: National Grid LNG, LP.

Description: National Grid LNG, LP submits the First Revised Sheet 58 et al. to FERC Gas Tariff, Fourth Revised Volume 1 effective 11/1/10.

Filed Date: 08/31/2010.

Accession Number: 20100901-0203.

Comment Date: 5 p.m. Eastern Time on Monday, September 13, 2010.

Docket Numbers: RP10-1162-000.

Applicants: Blue Lake Gas Storage Company.

Description: Blue Lake Gas Storage Company submits tariff filing per 154.204: NAESB Version 1.9 Compliance to be effective 11/1/2010.

Filed Date: 09/01/2010.

Accession Number: 20100901-5022.

Comment Date: 5 p.m. Eastern Time on Monday, September 13, 2010.

Docket Numbers: RP10-1163-000.

Applicants: Great Lakes Gas Transmission Limited Par.

Description: Great Lakes Gas Transmission Limited Partnership submits tariff filing per 154.204: NAESB 1.9 to be effective 11/1/2010.

Filed Date: 09/01/2010.

Accession Number: 20100901-5025.

Comment Date: 5 p.m. Eastern Time on Monday, September 13, 2010.

Docket Numbers: RP10-1164-000.

Applicants: Gas Transmission Northwest Corporation.

Description: Gas Transmission Northwest Corporation submits tariff filing per 154.204: NAESB 1.9 to be effective 11/1/2010.

Filed Date: 09/01/2010.

Accession Number: 20100901-5026.

Comment Date: 5 p.m. Eastern Time on Monday, September 13, 2010.

Docket Numbers: RP10-1165-000.

Applicants: North Baja Pipeline, LLC.

Description: North Baja Pipeline, LLC submits tariff filing per 154.204: NAESB 1.9 to be effective 11/1/2010.

Filed Date: 09/01/2010.

Accession Number: 20100901-5027.

Comment Date: 5 p.m. Eastern Time on Monday, September 13, 2010.

Docket Numbers: RP10-1166-000.

Applicants: Northern Border Pipeline Company.

Description: Northern Border Pipeline Company submits tariff filing per 154.204: NAESB 1.9 to be effective 11/1/2010.

Filed Date: 09/01/2010.

Accession Number: 20100901-5028.

Comment Date: 5 p.m. Eastern Time on Monday, September 13, 2010.

Docket Numbers: RP10-1167-000.

Applicants: Tuscarora Gas Transmission Company.

Description: Tuscarora Gas Transmission Company submits tariff filing per 154.204: NAESB 1.9 to be effective 11/1/2010.

Filed Date: 09/01/2010.

Accession Number: 20100901-5029.

Comment Date: 5 p.m. Eastern Time on Monday, September 13, 2010.

Docket Numbers: RP10-1168-000.

Applicants: Trans-Union Interstate Pipeline, L.P.

Description: Trans-Union Interstate Pipeline, L.P. submits tariff filing per 154.203: Trans-Union FERC Gas Tariff to be effective 9/1/2010.

Filed Date: 09/01/2010.

Accession Number: 20100901-5030.

Comment Date: 5 p.m. Eastern Time on Monday, September 13, 2010.

Docket Numbers: RP10-1169-000.

Applicants: Gulf South Pipeline Company, LP.

Description: Gulf South Pipeline Company, LP submits tariff filing per 154.204: NAESB 1.9 to be effective 11/1/2010.

Filed Date: 09/01/2010.

Accession Number: 20100901-5031.

Comment Date: 5 p.m. Eastern Time on Monday, September 13, 2010.

Docket Numbers: RP10-1170-000.

Applicants: Panther Interstate Pipeline Energy, LLC.

Description: Panther Interstate Pipeline Energy, LLC submits Tariff Record 19 Version 1.9 to FERC Gas Tariff, First Revised Volume No 1, be effective 11/1/2010.

Filed Date: 09/01/2010.

Accession Number: 20100901-5032.

Comment Date: 5 p.m. Eastern Time on Monday, September 13, 2010.

Docket Numbers: RP10-1171-000.

Applicants: Ozark Gas Transmission, L.L.C.

Description: Ozark Gas Transmission, L.L.C. submits tariff filing per 154.204: Order No. 587-U Compliance Filing (NAESB Version 1.9 Standards) to be effective 11/1/2010.

Filed Date: 09/01/2010.

Accession Number: 20100901-5034.

Comment Date: 5 p.m. Eastern Time on Monday, September 13, 2010.

Docket Numbers: RP10-1172-000.

Applicants: NGO Transmission, Inc.

Description: NGO Transmission, Inc. submits tariff filing per 154.203: NGO Transmission—NAESB Version 1.9 Filing to be effective 11/1/2010.

Filed Date: 09/01/2010.

Accession Number: 20100901-5035.

Comment Date: 5 p.m. Eastern Time on Monday, September 13, 2010.

Docket Numbers: RP10-1173-000.

Applicants: T.W. Phillips Pipeline Corp.

Description: T.W. Phillips Pipeline Corp. submits tariff filing per 154.203: NAESB Compliance Filing to be effective 11/1/2010.

Filed Date: 09/01/2010.

Accession Number: 20100901-5036.

Comment Date: 5 p.m. Eastern Time on Monday, September 13, 2010.

Docket Numbers: RP10-1174-000.

Applicants: Fayetteville Express Pipeline LLC.

Description: Fayetteville Express Pipeline LLC submits tariff filing per 154.203: NAESB Version 1.9 Compliance to be effective 11/1/2010.

Filed Date: 09/01/2010.

Accession Number: 20100901-5037.

Comment Date: 5 p.m. Eastern Time on Monday, September 13, 2010.

Docket Numbers: RP10-1175-000.

Applicants: Gulfstream Natural Gas System, L.L.C.

Description: Gulfstream Natural Gas System, L.L.C. submits tariff filing per 154.204: Order 587-U Compliance Filing (NAESB Version 1.9 Standards) to be effective 11/1/2010.

Filed Date: 09/01/2010.

Accession Number: 20100901-5038.

Comment Date: 5 p.m. Eastern Time on Monday, September 13, 2010.

Docket Numbers: RP10-1176-000.

Applicants: Southern Star Central Gas Pipeline, Inc.

Description: Southern Star Central Gas Pipeline, Inc. submits tariff filing per 154.204: NAESB 1.9 to be effective 10/20/2010.

Filed Date: 09/01/2010.

Accession Number: 20100901-5039.

Comment Date: 5 p.m. Eastern Time on Monday, September 13, 2010.

Docket Numbers: RP10-1177-000.

Applicants: Cheniere Creole Trail Pipeline, L.P.

Description: Cheniere Creole Trail Pipeline, L.P. submits tariff filing per 154.204: ACA Compliance Filing to be effective 10/1/2010.

Filed Date: 09/01/2010.

Accession Number: 20100901-5050.

Comment Date: 5 p.m. Eastern Time on Monday, September 13, 2010.

Docket Numbers: RP10-1178-000.

Applicants: Colorado Interstate Gas Company.

Description: Operational Purchases and Sales Report for the 12 month period ending June 30, 2010 of Colorado Interstate Gas Company.

Filed Date: 08/31/2010.

Accession Number: 20100831-5247.

Comment Date: 5 p.m. Eastern Time on Monday, September 13, 2010.

Docket Numbers: RP10-1179-000.

Applicants: Gulf South Pipeline Company, LP.

Description: Gulf South Pipeline Company, LP submits tariff filing per 154.204: Texla Energy Management, Inc. Capacity Release/Neg Rate Filing to be effective 9/1/2010.

Filed Date: 09/01/2010.

Accession Number: 20100901-5063.

Comment Date: 5 p.m. Eastern Time on Monday, September 13, 2010.

Docket Numbers: RP10-1180-000.

Applicants: Transcontinental Gas Pipe Line Company,

Description: Transcontinental Gas Pipe Line Company, LLC submits tariff filing per 154.203: Order No. 587-U Compliance (NAESB Version 1.9) to be effective 11/1/2010.

Filed Date: 09/01/2010.

Accession Number: 20100901-5066.

Comment Date: 5 p.m. Eastern Time on Monday, September 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-22420 Filed 9-8-10; 8:45 am]

BILLING CODE 6717-01-P